DEPARTMENT OF COMMERCE

National Oceanic and Atmospheric Administration

RIN: 0648-XL88

Gulf of Mexico Fishery Management Council; Public Meetings

AGENCY: National Marine Fisheries Service (NMFS), National Oceanic and Atmospheric Administration (NOAA), Commerce.

ACTION: Notice of public scoping meetings.

SUMMARY: The Gulf of Mexico Fishery Management Council (Council) will convene scoping meetings to address loggerhead sea turtle interactions with reef fish bottom longlines.

DATES: The scoping meetings will be held December 9 & 10, 2008 at two locations. For specific dates, times, and subjects, see SUPPLEMENTARY INFORMATION.

ADDRESSES: The scoping meetings will be held in the following locations: Madeira Beach, FL and Panama City, FL. For specific addresses, see SUPPLEMENTARY INFORMATION.

Council address: Gulf of Mexico Fishery Management Council, 2203 North Lois Avenue, Suite 1100, Tampa, FL 33607.

FOR FURTHER INFORMATION CONTACT: Carrie Simmons, Fishery Biologist; telephone: (813) 348-1630.

SUPPLEMENTARY INFORMATION: The Gulf of Mexico Fishery Management Council (Council) has scheduled two scoping meetings on the estimated bycatch and subsequent mortality of hard shell sea turtles based on observer data in the bottom longline portion of the Gulf of Mexico reef fish fishery. The purpose of these scoping meetings is to explore possible alternatives to reduce takes of loggerhead sea turtles in the bottom longline fishery to levels that do not jeopardize the continued existence of the population. In response to observer data that indicates increased takes of sea turtles, the Council is required to take action to provide protection for threatened loggerhead sea turtles from interactions with fishing gear in compliance with the Endangered Species Act (ESA) and to reduce bycatch and bycatch mortality in compliance with National Standard 9 of the Magnuson-Stevens Fishery Conservation and Management Act (MSA). Scoping meetings are part of the initial phase of preparing a plan amendment. The purpose is to identify issues and a reasonable range of alternatives to address those issues. Such alternatives could include time/area closures, gear modifications, alternative baits, observer program, effort limitation, or other measures to reduce sea turtle takes and mortality of sea turtles from interactions with reef fish longline gear. The public is encouraged to attend and provide input. Public input will be used by the Council to further develop the amendment. The scoping meetings will begin at 6 p.m. and conclude at the end of public testimony or no later than 9 p.m. at each of the following locations:

Tuesday, December 9, 2008, Hilton Garden Inn, 1101 US Highway 231, Panama City, FL 32405; telephone: (850) 392-1093;

Wednesday, December 10, 2008, City of Madeira Beach, 300 Municipal Drive, Madeira Beach, FL 33708; telephone: (727) 391-9951.

Copies of the Amendments scoping documents can be obtained by calling the Council office at (813) 348-1630.

Special Accommodations

These scoping meetings are physically accessible to people with disabilities. Requests for sign language interpretation or other auxiliary aids should be directed to Tina O'Hern at the Council (see ADDRESSES) at least 5 working days prior to the meeting.

Dated: November 18, 2008.
Tracey L Thompson,
Acting Director, Office of Sustainable Fisheries, National Marine Fisheries Service.

[FR Doc. E8-27683 Filed 11-21-08; 8:45 am]

BILLING CODE 3510-22-S